ENVIRONMENTAL PROTECTION AGENCY

[FRL-7858-1]

Science Advisory Board Staff Office Notification of Upcoming Meeting of the Science Advisory Board Committee on Valuing the Protection of Ecological Systems and Services (C-VPESS)

AGENCY: Environmental Protection Agency (EPA).

ACTION: Notice.

SUMMARY: The EPA Science Advisory Board (SAB) Staff Office announces a public meeting of the SAB's Committee on Valuing the Protection of Ecological Systems and Services (C-VPESS) to conduct an advisory on the EPA's draft Ecological Benefits Assessment Strategic Plan (EBASP) and to discuss issues concerning methods.

DATES: January 25-26, 2005. A public meeting of the C-VPESS will be held from 9 a.m. to 5:30 p.m (eastern time) on January 25, 2005 and from 9 a.m. to 3:30 p.m. (eastern time) on January 26, 2005.

ADDRESSES: The meeting will take place at the SAB Conference Center, 1025 F Street, NW., Suite 3700, Washington, DC 20004.

FOR FURTHER INFORMATION CONTACT: Members of the public wishing further information regarding the SAB C-VPESS meeting may contact Dr. Angela Nugent, Designated Federal Officer (DFO), via telephone at: (202-343-9981) or e-mail at: nugent.angela@epa.gov. The SAB mailing address is: US EPA, Science Advisory Board (1400F), 1200 Pennsylvania Avenue, NW., Washington, DC 20460. General information about the SAB, as well as any updates concerning the meetings announced in this notice, may be found in the SAB Web site at: http://www.epa.gov/sab.

SUPPLEMENTARY INFORMATION: Background: Background on the SAB C-VPESS and its charge was provided in 68 Fed. Reg. 11082 (March 7, 2003). The purpose of the meeting is for the SAB C-VPESS to conduct an advisory on the EPA's draft Ecological Benefits Assessment Strategic Plan and to discuss issues concerning methods for valuing the protection of ecological systems and services. All of these activities are related to the Committee's overall charge, to assess Agency needs and the state of the art and science of valuing protection of ecological systems and services, and then to identify key areas for improving knowledge, methodologies, practice, and research.

Availability of Review Material for the Meetings: The Agenda for this meeting will be available from the SAB Staff Office Web site at: http://www.epa.gov/sab/agendas.htm. The review document that will be the focus of the January 25, 2005 meeting, EPA's draft Ecological Benefits Assessment Strategic Plan, will be available on the Web site of EPA's National Center for Environmental Economics: http://yosemite.epa.gov/ee/epa/eed.nsf/pages/homepage.

Procedures for Providing Public Comment: It is the policy of the EPA SAB Staff Office to accept written public comments of any length, and to accommodate oral public comments whenever possible. The SAB Staff Office expects that public statements presented at SAB meetings will not be repetitive of previously submitted oral or written statements. Oral Comments: In general, each individual or group requesting an oral presentation at a face-to-face meeting will be limited to a total time of ten minutes (unless otherwise indicated). Interested parties should contact the Designated Federal Official (DFO) in writing via e-mail at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the appropriate DFO at the address/contact information above in the following formats: one hard copy with original signature, and one electronic copy via e-mail (acceptable file format: Adobe Acrobat, WordPerfect, Word, or Rich Text files (in IBM-PC/Windows 98/2000/XP format). Those providing written comments and who attend the meeting are also asked to bring 35 copies of their comments for public distribution.

Meeting Accommodations: Individuals requiring special accommodation to access these meetings, should contact the relevant DFO at least five business days prior to the meeting so that appropriate arrangements can be made.

Dated: December 22, 2004.
Anthony Maciorowski,
Acting Director, EPA Science Advisory Board Staff Office.

[FR Doc. 05-265 Filed 1-5-05; 8:45 am]

BILLING CODE 6560-50-P